DEPARTMENT OF THE INTERIOR

National Park Service

[NPS-WASO-NAGPRA-NPS0038782; PPWOCRADN0-PCU00RP14.R50000]

Notice of Inventory Completion: Autry Museum of the American West and California, Los Angeles, CA, and California Department of Parks and Recreation, Sacramento, CA

AGENCY: National Park Service, Interior.

ACTION: Notice.

SUMMARY: In accordance with the Native American Graves Protection and Repatriation Act (NAGPRA), the Autry Museum of the American West (Southwest Museum) jointly with California Department of Parks and Recreation have completed an inventory of human remains and associated funerary objects, and has determined that there is a cultural affiliation between the human remains and associated funerary objects and Indian Tribes or Native Hawaiian organizations in this notice.

DATES: Repatriation of the human remains and associated funerary objects in this notice may occur on or after November 4, 2024.

ADDRESSES: Karimah Richardson, M.Phil., RPA, Associate Curator of Anthropology and Repatriation Supervisor, Autry Museum of the American West, 4700 Western Heritage Way, Los Angeles, CA 90027, telephone (323) 495-4203, email krichardson@theautry.org and Leslie Hartzell, NAGPRA Coordinator, at California State Parks, 715 P Street, Suite 13, Sacramento, CA 95814, telephone (415) 831-2700, email leslie.hartzell@parks.ca.gov.

SUPPLEMENTARY INFORMATION: This notice is published as part of the National Park Service's administrative responsibilities under NAGPRA. The determinations in this notice are the sole responsibility of the Autry Museum of the American West jointly with California Department of Parks and Recreation, and additional information on the determinations in this notice, including the results of consultation, can be found in the inventory or related records. The National Park Service is not responsible for the determinations in this notice.

Abstract of Information Available

Based on the information available, human remains representing at least 14 individuals have been reasonably identified. The 30 associated funerary objects are one olivella shell, 19 faunal bone fragments, three charcoal pieces, one clam shell fragment, three oyster shell fragments, one mussel fragment, one crab shell fragment, and one unmodified stone. In 1982, human remains were found “in collection”, wrapped in a Los Angeles Examiner newspaper dated September 4th, 1933, and a paper bag with “Carpinteria” written across it with no associated object number. Mishopshnow (CA-SBa-7) is a Chumash village and cemetery site that dates to the Late Period (A.D. 1100 to contact) that is located in the city of Carpinteria. It is unknown how or when the human remains (17.C.71) came to the Southwest Museum (now part of the Autry Museum).

Cultural Affiliation

Based on the information available and the results of consultation, cultural affiliation is reasonably identified by the geographical location or acquisition history of the human remains and associated funerary objects described in this notice.

Determinations

The Autry Museum of the American West jointly with California Department of Parks and Recreation has determined that:

• The human remains described in this notice represent the physical remains of 14 individuals of Native American ancestry.

• The 30 objects described in this notice are reasonably believed to have been placed intentionally with or near individual human remains at the time of death or later as part of the death rite or ceremony.

• There is a reasonable connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 4, 2024. If competing requests for repatriation are received, the Autry Museum of the American West jointly with California Department of Parks and Recreation must determine the most appropriate requestor prior to repatriation. Requests for joint repatriation of the human remains and associated funerary objects are considered a single request and not competing requests. The Autry Museum of the American West jointly with California Department of Parks and Recreation is responsible for sending a copy of this notice to the Indian Tribes and Native Hawaiian organizations identified in this notice.

Authority: Native American Graves Protection and Repatriation Act, 25 U.S.C. 3003, and the implementing regulations, 43 CFR 10.10.

Dated: September 25, 2024.
Melanie O'Brien,
Manager, National NAGPRA Program.

[FR Doc. 2024-22889 Filed 10-3-24; 8:45 am]

BILLING CODE 4312-52-P